COMMODITY FUTURES TRADING COMMISSION

17 CFR Part 37

RIN 3038-AD18

Core Principles and Other Requirements for Swap Execution Facilities; Correction

AGENCY: Commodity Futures Trading Commission.

ACTION: Final rule; correction.

SUMMARY: The Commodity Futures Trading Commission is correcting a final rule that appeared in the Federal Register of June 4, 2013 (78 FR 33476). The final rule applies to the registration and operation of a new type of regulated entity named a swap execution facility, and implements provisions of the Dodd-Frank Wall Street Reform and Consumer Protection Act.

DATES: The effective date of this correction is August 5, 2013.

FOR FURTHER INFORMATION CONTACT: Amir Zaidi, Special Counsel, Division of Market Oversight, Commodity Futures Trading Commission, Three Lafayette Center, 1155 21st Street NW., Washington, DC 20581; 202-418-6770; azaidi@cftc.gov.

SUPPLEMENTARY INFORMATION: In FR Doc. 2013-12242 appearing on page 33476 in the Federal Register of Tuesday, June 4, 2013, the following corrections are made:

§ 37.702 [Corrected]

1. On page 33591, in the second column, in § 37.702 General financial integrity, paragraph (b) is corrected to read as follows:

(b) For transactions cleared by a derivatives clearing organization:

(1) By ensuring that the swap execution facility has the capacity to route transactions to the derivatives clearing organization in a manner acceptable to the derivatives clearing organization for purposes of clearing; and

(2) By coordinating with each derivatives clearing organization to which it submits transactions for clearing, in the development of rules and procedures to facilitate prompt and efficient transaction processing in accordance with the requirements of § 39.12(b)(7) of this chapter.

Appendix B to Part 37—Guidance on, and Acceptable Practices in, Compliance With Core Principles [Corrected]

2. On page 33600, in the second column, under the heading Core Principle 3 of Section 5h of the Act—Swaps Not Readily Susceptible to Manipulation, in paragraph (a)(3), correct the reference to “section c(5)” to read “section c(4).”

Dated: July 31, 2013.
Christopher J. Kirkpatrick,
Deputy Secretary of the Commission.

[FR Doc. 2013-18773 Filed 8-2-13; 8:45 am]

BILLING CODE 6351-01-P